DEPARTMENT OF AGRICULTURE

Rural Telephone Bank

Staff Briefing

AGENCY: Rural Telephone Bank, USDA.

ACTION: Staff Briefing for the Board of Directors.

Time and Date: 2 p.m., Monday, August 18, 2003.

Place: Conference Room 104-A, Jamie L. Whitten Federal Building, U.S. Department of Agriculture, 12th & Jefferson Drive, SW., Washington, DC.

Status: Open.

Matters to be discussed:

1. Annual retirement of class A stock.

2. Annual class C stock dividend rate.

3. Loan loss reserve for FY 2003.

4. Privatization discussion.

5. Administrative and other issues.

ACTION: Board of Directors Meeting.

Time and Date: 9 a.m., Tuesday, August 19, 2003.

Place: Conference Room 104-A, Jamie L. Whitten Federal Building, U.S. Department of Agriculture, 12th & Jefferson Drive, SW., Washington, DC.

Status: Open.

Matters to be considered: The following matters have been placed on the agenda for the Board of Directors meeting:

1. Call to order.

2. Action on Minutes of the May 9, 2003, board meeting.

3. Secretary's Report on loans approved.

4. Treasurer's Report.

5. Report on the allowance for loan loss reserve for FY 2003.

6. Privatization presentation by the Office of Management and Budget and the Department of Treasury.

7. Consideration of resolution to retire class A stock in FY 2003.

8. Consideration of resolution to set annual class C stock dividend rate.

9. Governor's Remarks.

10. Adjournment.

FOR FURTHER INFORMATION CONTACT: Roberta D. Purcell, Assistant Governor, Rural Telephone Bank, (202) 720-9554.

Dated: August 1, 2003.
Roberta D. Purcell,
Acting Governor, Rural Telephone Bank.

[FR Doc. 03-20079 Filed 8-1-03; 4:47 pm]

BILLING CODE 3410-15-P